ENVIRONMENTAL PROTECTION AGENCY

[Docket# #EPA-R04-SFUND-2006-0864; FRL-8243-5]

Rosso Property Scrapyard Site; Dover, Craven County, NC; Notice of Settlement

AGENCY: Environmental Protection Agency.

ACTION: Notice of settlement; correction.

SUMMARY: The Environmental Protection Agency published in the Federal Register on November 1, 2006 a document concerning the Rosso Property Scrapyard Site located in Dover, Craven County, North Carolina. In the body of the notice the Constitution Road Superfund Site was mistakenly listed instead of the Rosso Property Scrapyard Site. EPA will be accepting comments only on the Rosso Property Scrapyard Site for the notice EPA-R04-SFUND-2006-0864; FRL-8237-4.

DATES: The original comment period of November 1, 2006 to December 1, 2006 will remain unchanged.

FOR FURTHER INFORMATION CONTACT: Paula V. Batchelor at 404-562-8887 or at Batchelor.Paula@EPA.Gov.

Dated: November 16, 2006.
Greg Armstrong,
Acting Chief, Superfund Enforcement and Information Management Branch, Superfund Division.

[FR Doc. E6-19863 Filed 11-22-06; 8:45 am]

BILLING CODE 6560-50-P